DEPARTMENT OF AGRICULTURE

Forest Service

Siuslaw Resource Advisory Committee

AGENCY: Forest Service, USDA.

ACTION:

Notice of meeting.

SUMMARY: The Siuslaw Resource Advisory Committee will meet in Corvallis, OR. The purpose of the meeting is to Review RAC FY08 Business, Elect Chairperson, Set FY08 Overhead Rate, Information Share, Public Forum and 2008 Project Review/Recommendations.

DATES: The meeting will be held September 21, 2007 beginning at 9:30 a.m.

ADDRESSES: The meeting will be held at the Siuslaw National Forest Supervisor's Office, 4077 SW Research Way, Corvallis, Oregon.

FOR FURTHER INFORMATION CONTACT: Linda Stanley, Community Development Specialist, Siuslaw National Forest, 541/928-7085 or write to Forest Supervisor, Siuslaw National Forest, 4077 SW Research Way, Corvallis, OR 97339.

SUPPLEMENTARY INFORMATION: A public input period will begin before 2008 project review.

Dated: August 28, 2007.
Chip Weber,
Acting Forest Supervisor.

[FR Doc. 07-4298 Filed 8-31-07; 8:45 am]

BILLING CODE 3410-11-M